DEPARTMENT OF COMMERCE

Foreign-Trade Zones Board

[B-29-2013]

Foreign-Trade Zone 158—Vicksburg/Jackson, Mississippi; Authorization of Production Activity; Extension of Production Authority; Bauhaus USA, Inc. (Upholstered Furniture); Saltillo, Mississippi

On February 28, 2013, the Greater Mississippi Foreign-Trade Zone, Inc., grantee of FTZ 158, submitted a notification of proposed production activity to the Foreign-Trade Zones (FTZ) Board on behalf of Bauhaus USA, Inc., in Saltillo, Mississippi.

The notification was processed in accordance with the regulations of the FTZ Board (15 CFR part 400), including notice in the Federal Register inviting public comment (78 FR 20889, 4-8-2013). The FTZ Board has determined that no further review of the activity is warranted at this time. The production activity described in the notification is authorized and the authority is extended on an indefinite basis, subject to the FTZ Act and the Board's regulations, including Section 400.14, and the following restrictions:

1. The annual volume of foreign micro-denier suede upholstery fabric finished with a caustic soda solution that may be admitted to the zone under nonprivileged foreign status (19 CFR 146.42) is limited to 3.5 million square yards.

2. Bauhaus USA, Inc., must admit all foreign upholstery fabrics other than micro-denier suede upholstery fabrics finished with a caustic soda solution to the zone under domestic (duty-paid) status (19 CFR 146.43).

3. Bauhaus USA, Inc., shall submit supplemental annual report data and information for the purpose of monitoring by the FTZ Staff.

Dated: August 7, 2013.
Andrew McGilvray,
Executive Secretary.

[FR Doc. 2013-19620 Filed 8-12-13; 8:45 am]

BILLING CODE 3510-DS-P